DEPARTMENT OF TRANSPORTATION

Federal Railroad Administration

Notice of Informational Filing

In accordance with Section 236.913 of Title 49 of the Code of Federal Regulations (CFR), notice is hereby given that the Federal Railroad Administration (FRA) has received an informational filing from the Northeast Illinois Regional Commuter Railroad Corporation (Metra) to permit field testing of the railroad's processor-based train control system. The informational filing is described below, including the requisite docket number where the informational filing and any related information may be found. The document is also available for public inspection; however, FRA is not accepting public comments.

Northeast Illinois Regional Commuter Railroad Corporation

[Docket Number FRA-2008-0057]

Metra has submitted an informational filing to permit field testing of the railroad's processor-based train control system identified as Electronic Train Management System (ETMS). The informational filing addresses the requirements under 49 CFR 236.913(j)(1).

Specifically, the informational filing contains a description of the ETMS product and an operational concepts document, pursuant to 49 CFR 236.913(j)(1). The ETMS is a locomotive-centric, non-vital system designed to be overlaid on existing methods of operation and to provide an improved level of railroad safety through enforcement of a train's authority limits and both permanent and temporary speed restrictions. An associated temporary waiver petition has also been submitted to support field testing of Metra's ETMS pursuant to 49 CFR Sections 211.7 and 211.51, and can be found in the same docket as this informational filing (FRA-2008-0057).

Metra desires to commence field testing on or about July 1, 2008, or as soon as practicable thereafter, contingent upon FRA's acceptance and approval of their informational filing. Metra intends to test and develop ETMS on its Rock Island District between Chicago, IL and Joliet, IL.

Interested parties are invited to review the informational filing and associated documents at DOT's Docket Management facility during regular business hours (9 a.m.-5 p.m.) at 1200 New Jersey Avenue, SE., Room W12-140, Washington, DC 20590. All documents in the public docket are available for inspection and copying on the internet at http://www.regulations.gov.

Anyone is able to search the electronic form of any written communications received into any of our dockets by name of the individual submitting the document (or signing the document, if submitted on behalf of an association, business, labor union, etc.). You may review the DOT's complete Privacy Act Statement in the Federal Register published on April 11, 2000 (Volume 65, Number 70; Pages 19477-78).

Issued in Washington, DC on May 30, 2008.
Grady C. Cothen, Jr.,
Deputy Associate Administrator for Safety Standards and Program Development.

[FR Doc. E8-12545 Filed 6-4-08; 8:45 am]

BILLING CODE 4910-06-P